DEPARTMENT OF HOMELAND SECURITY

Undersecretary for Management; Human Resource Management System Senior Review Advisory Committee

AGENCY: Undersecretary for Management, DHS.

ACTION: Notice of meeting.

SUMMARY: The Human Resource Management System Senior Review Advisory Committee (Committee or SRC) will meet in its second session on Monday, October 20 through Wednesday, October 22, 2003. The SRC is charged with reviewing the work of the Department of Homeland Security/Office of Personnel Management (DHS/OPM) Design Team and providing options to the Secretary of DHS and the Director of OPM for their consideration in establishing the new Human Resource Management System provided for in section 841 of the Homeland Security Act. The entire meeting will be open to the public.

DATES: The SRC will meet October 20-October 22, 2003, from 8:30 a.m. to 5 p.m.; at the discretion of the chair the meetings may run past 5 p.m. Notice of this meeting is published well in advance of the meeting to give sufficient notice to interested parties and stakeholders. Requests by members of the public to make oral presentations at the meeting and written statements for the SRC should reach the Designated Federal Official at DHS on or before October 13, 2003. All oral presentations and written statements will become part of the Committee record and deliberations.

ADDRESSES: The SRC meeting will be held at the Almas Temple, 1315 K Street NW., Washington, DC. Send written statements and requests to make an oral presentation to the SRC Designated Federal Officer (DFO) at: Department of Homeland Security, Washington, DC 20528. Submission by e-mail or by delivery services such as Fedex, UPS, etc., is preferred to ensure delivery on time. The address is: Department of Homeland Security, Attn: Under Secretary for Management/CHCO/Melissa Allen, Via: Remote Delivery Site (RDS), 245 Murray Drive, Bldg 410, Washington, DC 20528.

FOR FURTHER INFORMATION CONTACT: Ms. Kay Frances Dolan, Director Human Resource Policy, DHS, and Ms. Melissa Allen, Senior Human Resource Advisor, DHS, have been designated as DFOs for the SRC. They can be reached on 202-692-4272; KayFrances.Dolan@dhs.gov or Melissa.Allen@dhs.gov; and at the address listed above.

SUPPLEMENTARY INFORMATION: Objective. The purpose of this meeting is to (1) deliberate the options developed by the HR Design Team; (2) to hold discussions on possible modifications to those options, and (3) to determine which options should be forwarded by the Senior Review Committee for consideration by the Secretary and Director. In addition to these formal agenda items, the Committee will hear from members of the public. Due to the complexity of the topics to be reviewed and the length of the meeting, the following tentative schedule is nominally established: On Monday, October 20, and Tuesday, October 21, the SRC will hear presentations on and deliberate the options. On Tuesday, October 21, the SRC will hear from members of the public who have requested time to make oral presentations. On Wednesday, October 22, the SRC will continue its deliberations on all of the options presented and determine which options should be forwarded by the Senior Review Committee for consideration by the Secretary and Director.

Public Presentations. Requests to make oral presentations should reach the Designated Federal Official at DHS on or before October 13, 2003. Oral presentations will be limited to approximately 5 minutes to allow sufficient time for any questions from the Committee. Oral presentations may be supplemented by written statements; written statements submitted for the record should be limited to no more than fifteen (15) pages. If there is insufficient time to honor all requests for oral presentations, the Designated Federal Official (DFO) will seek to ensure a full range of views and opinions are heard. Members of the public who wish to file a written statement with the SRC should send it to the DFO (see addresses above); written statements should be received on or before October 15, 2003. All written submissions will become part of the Committee record and deliberations.

Information on Services for Individuals with Disabilities. For information on facilities or services for individuals with disabilities, or to request special assistance at the meeting, please notify the Designated Federal Official as soon as possible by phone or email.

Dated: September 26, 2003.
Janet Hale,
Under Secretary for Management.

[FR Doc. 03-24906 Filed 9-30-03; 8:45 am]

BILLING CODE 4410-10-P